DEPARTMENT OF LABOR

Employment and Training Administration

[TA-W-65,211]

Cabot Supermetals, Gilbertsville, PA; Notice of Termination of Investigation

Pursuant to Section 221 of the Trade Act of 1974, as amended, an investigation was initiated on February 10, 2009, in response to a worker petition filed by the International Chemical Workers Union a Council of the United Food and Commercial Workers Union, Local 619C on behalf of workers at Cabot Supermetals, Gilbertsville, Pennsylvania.

The petitioners have requested that the petition be withdrawn. Consequently, the investigation has been terminated.

Signed at Washington, DC, this 26th day of March 2009.
Linda G. Poole,
Certifying Officer, Division of Trade Adjustment Assistance.

[FR Doc. E9-8918 Filed 4-17-09; 8:45 am]

BILLING CODE 4510-FN-P